DEPARTMENT OF THE INTERIOR

Bureau of Land Management

[CO-14000-00-1220-00]

Camping Closure In Horseshoe Bend Area of Glenwood Springs Field Office; Colorado

AGENCY: Bureau of Land Management, Department of the Interior.

ACTION: Order of camping restriction.

SUMMARY: This order closes to camping and overnight use, public lands in the Horseshoe Bend area, east of Glenwood Springs, Colorado. The affected public land is generally located south of Interstate 70, along the Glenwood Canyon bicycle path, east of Glenwood Springs, Colorado. The camping closure includes public lands in T. 6 S., R. 89 W., Section 3 SE¼ 6th Principal Meridian; Garfield County.

This action is in accordance with the Glenwood Springs Resource Management Plan, Record of Decision (BLM, 1984). This order, issued under the authority of 43 CFR 8364.1, is established to protect persons, property, public lands and resources. Any camping or overnight use within the closed area, year-round, is prohibited. This order does not affect day time use.

EFFECTIVE DATES: The restriction shall be effective upon publication until rescinded or modified by the Authorized Officer.

SUPPLEMENTARY INFORMATION: The area affected by this order has been damaged by long term camping, trash and improper disposal of human waste. It is along a popular bicycle route along the Colorado River to Glenwood Springs, used extensively for day-time use. The existence of large camps along the trail conflicts with this use, local residences and is a negative visual impact for heavy river use.

The area and routes affected by this order will be posted with appropriate regulatory signs in such a manner and location as is reasonable to bring prohibitions to the attention of visitors. Information, including maps of the restricted area, is available in the Glenwood Springs Field Office at the addresses shown below.

Persons who are exempt from the restrictions include: (1) Any Federal, State, or local officers engaged in fire, emergency and law enforcement activities; (2) BLM employees engaged in official duties; (3) Persons authorized by permit to camp in the closed area.

PENALTIES: Any person who fails to comply with the provisions of this order may be subject to penalties outlined in 43 CFR 8360.0-7.

ADDRESSES: Field Office Manager, Glenwood Springs Field Office, Bureau of Land Management, 50629 Highway 6 & 24, P.O. Box 1009, Glenwood Springs, CO 81602.

FOR FURTHER INFORMATION CONTACT: Dorothy Morgan (970) 947-2806.

Anne Huebner,
Glenwood Springs Field Office Manager.

[FR Doc. 00-18837 Filed 7-25-00; 8:45 am]

BILLING CODE 4310-JB-P